FEDERAL COMMUNICATIONS COMMISSION

[DA 24-508; FR ID 224315]

Media Bureau Announces Filing Window for Qualified Low Power Television Stations To Convert to Class A Status Pursuant to the Low Power Protection Act—May 31, 2024 to May 30, 2025

AGENCY: Federal Communications Commission.

ACTION: Notice.

SUMMARY: The Media Bureau (Bureau) announces that all rules implementing the Low Power Protection Act (LPPA) are in effect and the one-year window for qualified low power television (LPTV) stations to apply for primary spectrum use status as Class A television stations will open on May 31, 2024 and close on May 30, 2025 (LPPA Window).

DATES: The Media Bureau will conduct the LPPA Window from May 31, 2024 to May 30, 2025.

FOR FURTHER INFORMATION CONTACT: Kim Matthews, Kim.Matthews@fcc.gov, (202) 418-2154 of the Policy Division, Media Bureau, or Emily Harrison, Emily.Harrison@fcc.gov, (202) 418-1665, Kevin Harding, Kevin.Harding@fcc.gov, (202) 418-7077, or Mark Colombo, Mark.Colombo@fcc.gov, (202) 418-7611 of the Video Division, Media Bureau.

SUPPLEMENTARY INFORMATION: This is a synopsis of the Media Bureau's Public Notice, in DA 24-508, released on May 31, 2024. The full text of this document is available for download at https://docs.fcc.gov/public/attachments/DA-24-508A1.pdf. To request materials in accessible formats (braille, large print, computer diskettes, or audio recordings), please send an email to FCC504@fcc.gov or call the Consumer & Government Affairs Bureau at (202) 418-0530 (VOICE), (202) 418-0432 (TTY).

Synopsis

The Bureau will conduct the LPPA Window from May 31, 2024 to May 30, 2025. The LPPA provides qualifying LPTV stations with a limited window of opportunity to apply for primary spectrum use status as Class A television stations. Applications in the LPPA Window will be filed electronically via the Commission's Licensing and Management System (LMS) on FCC Form 2100, Schedule F and applicants will be required to pay the requisite fee for an application for a “new license” for a Class A station ($425.00). Instructions on completing Form 2100, Schedule F are available at https://docs.fcc.gov/public/attachments/DOC-332131A1.pdf.

In order to be eligible for Class A status under the LPPA, a qualified LPTV licensee must have complied with the eligibility requirements set forth in section 73.6030(b) of the Commission's rules and complete all required certifications in FCC Form 2100, Schedule F. A qualified LPTV licensee is required to submit, as part of its application, a statement concerning the station's operating schedule during the 90 days preceding January 5, 2023 and a list of locally produced programs aired during that time period. The applicant may also submit, or may be requested by Commission staff to submit, other documentation to support its certification that the licensee meets the eligibility requirements for a Class A license under the LPPA. All stations afforded Class A status under the LPPA are reminded that they will be required to continue to comply with the service requirements applicable to Class A stations in order to maintain such status. A station afforded Class A status under the LPPA must continue to operate in a Designated Market Areas (DMA) with not more than 95,000 television households in order to maintain its Class A status, subject to certain exceptions, and is not permitted to initiate a move to a different DMA with more than 95,000 television households at the time of the move and still retain its Class A status.

Federal Communications Commission.
Thomas Horan,
Chief of Staff, Media Bureau.

[FR Doc. 2024-12858 Filed 6-11-24; 8:45 am]

BILLING CODE 6712-01-P